DEPARTMENT OF HOMELAND SECURITY

[Docket No. FEMA-2022-0042]

Privacy Act of 1974; System of Records; Correction

AGENCY: Federal Emergency Management Agency, Department of Homeland Security.

ACTION: Notice of correction.

SUMMARY: The Department of Homeland Security (DHS) published a document in the Federal Register of March 31, 2023, concerning request for comments on the Federal Emergency Management Agency's (FEMA) collection of records on individuals reported as being involved in suspicious activities, individuals who report suspicious activities, and individuals charged with the analysis and appropriate handling of suspicious activity reports. The document contained an incorrect agency docket number.

FOR FURTHER INFORMATION CONTACT: For general questions please contact: Tammi Hines, (202) 646-3606, FEMA-Privacy@fema.dhs.gov, Privacy Officer, Federal Emergency Management Agency, Department of Homeland Security, Washington, DC 20478. For privacy questions please contact: Mason C. Cutter, (202) 343-1717, Privacy@hq.dhs.gov, Chief Privacy Officer, Privacy Office, Department of Homeland Security, Washington, DC 20528-0655.

SUPPLEMENTARY INFORMATION:

Correction

In the Federal Register of March 31, 2023, in Federal Register Doc. 88-19317, on pages 19317-19320, the correct agency docket number should be “FEMA-2022-0042.”

DATES: Submit comments on or before May 19, 2023.

* * * * *

Mason C. Clutter,
Acting Chief Privacy Officer, Department of Homeland Security.

[FR Doc. 2023-08241 Filed 4-18-23; 8:45 am]

BILLING CODE 9111-19-P